DEPARTMENT OF COMMERCE

International Trade Administration

[A-570-053]

Certain Aluminum Foil From People's Republic of China: Preliminary Results of Antidumping Duty Administrative Review, Partial Rescission of Antidumping Duty Administrative Review, and Preliminary Determination of No Shipments; 2021-2022

AGENCY: Enforcement and Compliance, International Trade Administration, Department of Commerce.

SUMMARY: The U.S. Department of Commerce (Commerce) preliminarily determines that certain companies under review sold subject merchandise at less than normal value during the period of review (POR), April 1, 2021, through March 31, 2022. Additionally, Commerce is rescinding this administrative review with respect to certain companies. Interested parties are invited to comment on these preliminary results of this review.

DATES: Applicable May 5, 2023.

FOR FURTHER INFORMATION CONTACT: Michael J. Heaney, AD/CVD Operations, Office VI, Enforcement and Compliance, International Trade Administration, U.S. Department of Commerce, 1401 Constitution Avenue NW, Washington, DC 20230; telephone: (202) 482-4475.

SUPPLEMENTARY INFORMATION:

Background

On June 9, 2022, in response to review requests from multiple parties, Commerce published the notice of initiation of an administrative review of the antidumping duty order ¹ on certain aluminum foil from the People's Republic of China (China).² On September 7, 2022, all requests for review were withdrawn for certain companies.³ On December 2, 2022, we extended the deadline for these preliminary results of review, until April 28, 2023.⁴

¹ See Certain Aluminum Foil from the People's Republic of China: Amended Final Determination of Sales at Less Than Fair Value and Antidumping Duty Order, 83 FR 17362 (April 19, 2018) (Order).

² See Initiation of Antidumping and Countervailing Duty Administrative Reviews, 87 FR 35165 (June 9, 2022).

³ See Petitioners' Letter, “Petitioners Partial Withdrawal of Review Requests,” dated September 7, 2022.

⁴ See Memorandum, “Extension of Time Limit for Preliminary Results of Antidumping Duty Administrative Review,” dated December 2, 2022.

For details regarding the events that occurred subsequent to the initiation of the review, see the Preliminary Decision Memorandum.⁵ A list of topics discussed in the Preliminary Decision Memorandum is included as an appendix to this notice. The Preliminary Decision Memorandum is a public document and is made available to the public via Enforcement and Compliance's Antidumping and Countervailing Duty Centralized Electronic Service System (ACCESS). ACCESS is available to registered users at https://access.trade.gov. In addition, a complete version of the Preliminary Decision Memorandum can be found at https://access.trade.gov/public/FRNoticesListLayout.aspx.

⁵ See Memorandum, “Decision Memorandum for the Preliminary Results of the 2021-2022 Antidumping Duty Administrative Review of Certain Aluminum Foil from the People's Republic of China,” dated concurrently with, and hereby adopted by, this notice (Preliminary Decision Memorandum).

Scope of the Order

The merchandise covered by the order is certain aluminum foil from China. For a complete description of the scope of the Order, see the Preliminary Decision Memorandum.

Methodology

Commerce is conducting this administrative review in accordance with section 751(a)(1)(B) of the Tariff Act of 1930, as amended (the Act). In determining the dumping margins in this review, we calculated export prices in accordance with section 772 of the Act. Because Commerce has determined that China is a non-market economy country,⁶ within the meaning of section 771(18) of the Act, Commerce calculated normal value in accordance with section 773(c) of the Act. For a full description of the methodology underlying the preliminary results of this review, see the Preliminary Decision Memorandum.

⁶ See Antidumping Duty Investigation of Certain Aluminum Foil from the People's Republic of China: Affirmative Preliminary Determination of Sales at Less-Than-Fair Value and Postponement of Final Determination, 82 FR 50858, 50861 (November 2, 2017) (citing Memorandum, “China's Status as a Non-Market Economy,” dated October 26, 2017), unchanged in Certain Aluminum Foil from the People's Republic of China: Final Determination of Sales at Less Than Fair Value, 83 FR 9282 (March 5, 2018).

Partial Rescission of Administrative Review

Pursuant to 19 CFR 351.213(d)(1), Commerce will rescind an administrative review, in whole or in part, if all parties that requested a review withdraw their requests within 90 days of the publication date of the notice of initiation of the requested review. On September 7, 2022, the petitioners ⁷ withdrew their request for review of the following companies: (1) Anhui Maximum Aluminum Industries Company Ltd.; (2) Alcha International Holdings Limited; (3) Granges Aluminum (Shanghai) Co., Ltd.; (4) Hunan Suntown Marketing Limited; (5) Jiangsu Huafeng Aluminum Industry Co., Ltd.; (6) Jiangsu Zhongji Lamination Materials Co., Ltd.; (7) Jiangsu Zhongji Lamination Materials Co., (HK) Ltd.; (8) Suntown Technology Group Corporation Limited; (9) Xiamen Xiashun Aluminum Foil Co., Ltd.; (10) Yinbang Clad Materials Co., Ltd.; and (11) Walson (HK) Trading Co., Limited.⁸

⁷ The petitioners are the Aluminum Trade Enforcement Working Group and its individual members, i.e., JW Aluminum Company, Novelis Corporation, and Reynolds Consumer Products, LLC.

⁸ See Petitioners' Letter, “Petitioners Partial Withdrawal of Review Requests,” dated September 7, 2022.

Because the review requests for each of the 11 companies named above have been timely withdrawn, and because no other party has requested a review of these companies, we are rescinding this review with respect to these 11 companies, in accordance with 19 CFR 351.213(d)(1).

Preliminary Determination of No Shipments

Shanghai Shenyan Packaging Materials Co., Ltd. (Shanghai Shenyan) reported no shipments of subject merchandise to the United States during the POR.⁹ We confirmed the no-shipment claims by reviewing information obtained from a U.S. Customs and Border Protection (CBP) data query ¹⁰ and by contacting CBP to request that it provide any information that contradicted the no-shipment claims of these companies. To date, CBP has not responded to our inquiry with any contrary information, and we have not received any evidence that this company had any shipments of the subject merchandise sold to the United States during the POR.¹¹

⁹ See Shanghai Shenyan's Letter, “No Sales Certification,” dated July 11, 2022 (Shanghai Shenyan No Shipment Certification).

¹⁰ See Memorandum, “U.S. Customs and Border Protection Data,” dated June 24, 2022, at Attachment 1.

¹¹ CBP responds to Commerce's inquiry only when there are records of shipments from the company in question. See, e.g., Certain Hot-Rolled Flat-Rolled Carbon Quality Steel Flat Products from Brazil: Notice of Rescission of Antidumping Duty Administrative Review, 75 FR 65453, 65454 (October 25, 2010).

Based on its no-shipment certification, our analysis of the results of the CBP data queries, and the fact that CBP identified no information that contradicted the no-shipment claim, we preliminarily determine that Shanghai Shenyan did not have any shipments of subject merchandise to the United States during the POR. Consistent with Commerce's practice in non-market economy cases, we have not rescinded the review with respect to Shanghai Shenyan, but we will continue the review of this company and issue instructions to CBP based on the final results of the review.¹²

¹² See Non-Market Economy Antidumping Proceedings: Assessment of Antidumping Duties, 76 FR 65694 (October 24, 2011).

Preliminary Affiliation and Single Entity Determination

Consistent with Commerce's treatment of Dingsheng Aluminium Industries (Hong Kong) Trading Co., Limited (Dingsheng Aluminium Industries (Hong Kong) Trading Co., Ltd.); Hangzhou Dingsheng Import&Export Co., Ltd. (Hangzhou Dingsheng Import and Export Co., Ltd.); Hangzhou Five Star Aluminium Co., Ltd.; Hangzhou Teemful Aluminium Co., Ltd.; Inner Mongolia Liansheng New Energy Material Co.; and Inner Mongolia Xinxing New Energy Material Co., Ltd. (collectively, Dingsheng) in a prior segment of this proceeding,¹³ we have continued to find that these companies are affiliated entities, pursuant to sections 771(33)(E), (F), and (G) of the Act, and that they should be treated as a single entity pursuant to 19 CFR 351.401 (f)(1)-(2). For additional information, see the Preliminary Decision Memorandum.

¹³ See Antidumping Duty Investigation of Certain Aluminum Foil from the People's Republic of China: Affirmative Preliminary Determination of Sales at Less Than Fair Value and Postponement of Final Determination and Accompanying Preliminary Decision Memorandum, 82 FR 50858 (November 2, 2017), and accompanying Preliminary Decision Memorandum at 16-18, unchanged in Certain Aluminum Foil From the People's Republic of China: Final Determination of Sales at Less Than Fair Value, 83 FR 9282 (March 5, 2018). We find that record evidence supports continuing to treat these companies as a collapsed entity in this review. See Memorandum, “Dingsheng Analysis for the Preliminary Results,” dated concurrently with this memorandum.

Separate Rates

We have preliminarily determined that the companies within the Dingsheng entity demonstrated their eligibility for a separate rate. We have also preliminarily determined that Shanghai Huafon Aluminium Corporation (Shanghai Huafon) is ineligible for a separate rate because it filed no response to our antidumping questionnaire.¹⁴ For additional information, see the Preliminary Decision Memorandum.

¹⁴ See Preliminary Decision Memorandum at 2.

China-Wide Entity

In accordance with Commerce's policy, the China-wide entity will not be under review unless a party specifically requests, or Commerce self-initiates, a review of the China-wide entity.¹⁵ Because no party requested a review of the China-wide entity, the China-wide entity is not under review and the weighted-average dumping margin for the China-wide entity is not subject to change (i.e., 105.80 percent).¹⁶ Because Shanghai Huafon did not demonstrate its eligibility for a separate rate, we preliminarily determine Shanghai Huafon to be part of the China-wide entity.

¹⁵ See Antidumping Proceedings: Announcement of Change in Department Practice for Respondent Selection in Antidumping Duty Proceedings and Conditional Review of the Nonmarket Economy Entity in NME Antidumping Duty Proceedings, 78 FR 65963 (November 4, 2013).

¹⁶ See Order.

Preliminary Results of Review

We are preliminarily assigning the following dumping margins to the firms listed below for the period April 1, 2021, through March 31, 2022:

Exporter | Weighted-average dumping margin (percent)
Dingsheng Aluminium Industries (Hong Kong) Trading Co., Limited (Dingsheng Aluminium Industries (Hong Kong) Trading Co., Ltd.)/Hangzhou Dingsheng Import & Export Co., Ltd. (Hangzhou Dingsheng Import and Export Co., Ltd.)/Hangzhou Five Star Aluminium Co., Ltd./Hangzhou Teemful Aluminium Co., Ltd./Inner Mongolia Liansheng New Energy Material Co./Inner Mongolia Xinxing New Energy Material Co., Ltd | 32.85

Disclosure and Public Comment

Commerce intends to disclose to parties to the proceeding the calculations performed for these preliminary results of review within five days of the date of publication of this notice in the Federal Register in accordance with 19 CFR 351.224(b). Interested parties may submit case briefs no later than 30 days after the date of publication of these preliminary results of review in the Federal Register.¹⁷ Rebuttal briefs may be filed no later than seven days after case briefs are due and may respond only to arguments raised in the case briefs.¹⁸ A table of contents, list of authorities used, and an executive summary of issues should accompany any briefs submitted to Commerce. The summary should be limited to five pages total, including footnotes.¹⁹

¹⁷ See 19 CFR 351.309(c)(ii).

¹⁸ See 19 CFR 351.309(d).

¹⁹ See 19 CFR 351.309(c)(2), (d)(2).

Interested parties who wish to request a hearing must submit a written request to the Assistant Secretary for Enforcement and Compliance, U.S. Department of Commerce, within 30 days after the date of publication of this notice in the Federal Register.²⁰ Requests should contain the party's name, address, and telephone number, the number of individuals from the requesting party's firm that will attend the hearing, and a list of the issues the party intends to discuss at the hearing. Oral arguments at the hearing will be limited to issues raised in the briefs. If a request for a hearing is made, Commerce intends to hold the hearing at a date and time to be determined.²¹ Parties should confirm by telephone the date and time of the hearing two days before the scheduled date of the hearing.

²⁰ See 19 CFR 351.310(c).

²¹ See 19 CFR 351.310(d).

All submissions must be filed electronically using ACCESS.²² An electronically filed document must be received successfully in its entirety by Commerce's electronic records system, ACCESS, by 5 p.m. Eastern Time on the due date.²³ Note that Commerce has temporarily modified certain of its requirements for serving documents containing business proprietary information, until further notice.²⁴

²² See generally 19 CFR 351.303.

²³ See 19 CFR 351.303 (for general filing requirements); see also Antidumping and Countervailing Duty Proceedings: Electronic Filing Procedures; Administrative Protective Order Procedures, 76 FR 39263 (July 6, 2011).

²⁴ See Temporary Rule Modifying AD/CVD Service Requirements Due to COVID-19; Extension of Effective Period, 85 FR 41363 (July 10, 2020).

Unless otherwise extended, Commerce intends to issue the final results of this administrative review, which will include the results of its analysis of issues raised in any briefs, within 120 days of publication of these preliminary results of review in the Federal Register, pursuant to section 751(a)(3)(A) of the Act.

Assessment Rates

Upon issuance of the final results of this review, Commerce will determine, and U.S. Customs and Border Protection (CBP) shall assess, antidumping duties on all appropriate entries covered by this review.²⁵ Commerce intends to issue assessment instructions to CBP no earlier than 35 days after date of publication of the final results of this review in the Federal Register. If a timely summons is filed at the U.S. Court of International Trade, the assessment instructions will direct CBP not to liquidate relevant entries until the time for parties to file a request for a statutory injunction has expired (i.e., within 90 days of publication).

²⁵ See 19 CFR 351.212(b)(1).

For each individually examined respondent in this review whose weighted-average dumping margin in the final results of review is not zero or de minimis (i.e., less than 0.5 percent), Commerce intends to calculate importer/customer-specific assessment rates.²⁶ Where the respondent reported reliable entered values, Commerce intends to calculate importer/customer-specific ad valorem assessment rates by aggregating the amount of dumping calculated for all U.S. sales to the importer/customer and dividing this amount by the total entered value of the merchandise sold to the importer/customer.²⁷ Where the respondent did not report entered values, Commerce will calculate importer/customer-specific assessment rates by dividing the amount of dumping for reviewed sales to the importer/customer by the total quantity of those sales. Commerce will calculate an estimated ad valorem importer/customer-specific assessment rate to determine whether the per-unit assessment rate is de minimis; however, Commerce will use the per-unit assessment rate where entered values were not reported.²⁸ Where an importer/customer-specific ad valorem assessment rate is not zero or de minimis, Commerce will instruct CBP to collect the appropriate duties at the time of liquidation. Where either the respondent's weighted average dumping margin is zero or de minimis, or an importer/customer-specific ad valorem assessment rate is zero or de minimis, Commerce will instruct CBP to liquidate appropriate entries without regard to antidumping duties.²⁹

²⁶ See 19 CFR 351.212(b)(1).

²⁷ See 19 CFR 351.212(b)(1).

²⁸ Id.

²⁹ See Antidumping Proceedings: Calculation of the Weighted-Average Dumping Margin and Assessment Rate in Certain Antidumping Duty Proceedings; Final Modification, 77 FR 8101 (February 14, 2012).

Pursuant to Commerce's refinement to its practice, for sales that were not reported in the U.S. sales database submitted by an exporter individually examined during this review, Commerce will instruct CBP to liquidate the entry of such merchandise at the dumping margin for the China-wide entity.³⁰ Additionally, where Commerce determines that an exporter under review had no shipments of subject merchandise to the United States during the POR, any suspended entries of subject merchandise that entered under that exporter's CBP case number during the POR will be liquidated at the dumping margin for the China-wide entity.

³⁰ See Non-Market Economy Antidumping Proceedings: Assessment of Antidumping Duties, 76 FR 65694 (October 24, 2011), for a full discussion of this practice.

In accordance with section 751(a)(2)(C) of the Act, the final results of this review shall be the basis for the assessment of antidumping duties on entries of merchandise covered by the final results of this review and for future deposits of estimated antidumping duties, where applicable.

Cash Deposit Requirements

Commerce will instruct CBP to require a cash deposit for antidumping duties equal to the weighted-average amount by which the normal value exceeds U.S. price. The following cash deposit requirements will be effective for shipments of the subject merchandise from China entered, or withdrawn from warehouse, for consumption on or after the publication date of this notice in the Federal Register, as provided by section 751(a)(2)(C) of the Act: (1) for the exporters listed in the table above, the cash deposit rate will be equal to the weighted-average dumping margin established in the final results of this review for the exporter (except, if the dumping margin is de minimis (i.e., less than 0.5 percent), then the cash deposit rate will be zero for that exporter); (2) for previously investigated or reviewed Chinese and non-Chinese exporters that are not listed in the table above but that have separate rates, the cash deposit rate will continue to be the exporter-specific rate established in the most recently completed segment of this proceeding; (3) for all Chinese exporters of subject merchandise which have not been found to be entitled to a separate rate, the cash deposit rate will be the rate for the China-wide entity (i.e., 105.80 percent) ³¹ and (4) for all non-Chinese exporters of subject merchandise that have not received their own rate, the cash deposit rate will be the rate applicable to the China exporter that supplied that non-Chinese exporter. These cash deposit requirements, when imposed, shall remain in effect until further notice.

³¹ See Order.

Notification to Importers

This notice also serves as a preliminary reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred, and the subsequent assessment of double antidumping duties and/or an increase in the amount of antidumping duties by the amount of the countervailing duties.

Notification to Interested Parties

We are issuing and publishing these results in accordance with sections 751(a)(1) and 777(i)(1) of the Act, and 19 CFR 351.213 and 351.221(b)(4).

Dated: April 28, 2023.
Lisa W. Wang,
Assistant Secretary for Enforcement and Compliance.

Appendix

List of Sections in the Preliminary Decision Memorandum

I. Summary

II. Background

III. Scope of the Order

IV. Rescission of Review, In Part

V. Preliminary Determination of No Shipments

VI. Discussion of the Methodology

VII. Adjustment Under Section 777A of the Act

VIII. Currency Conversion

IX. Recommendation

[FR Doc. 2023-09568 Filed 5-4-23; 8:45 am]

BILLING CODE 3510-DS-P